DEPARTMENT OF COMMERCE

National Oceanic and Atmospheric Administration

RIN 0648-XO59

Fisheries of the South Atlantic and Gulf of Mexico; Southeast Data, Assessment, and Review (SEDAR); black grouper and red grouper.

AGENCY: National Marine Fisheries Service (NMFS), National Oceanic and Atmospheric Administration (NOAA), Commerce.

ACTION: Notice of SEDAR Workshops for South Atlantic and Gulf of Mexico black grouper and South Atlantic red grouper.

SUMMARY: The SEDAR assessments of the South Atlantic and Gulf of Mexico stocks of black grouper and South Atlantic red grouper will consist of a series of three workshops: a Data Workshop, an Assessment Workshop, and a Review Workshop. This is the fifteenth SEDAR. See SUPPLEMENTARY INFORMATION.

DATES: The Data Workshop will take place June 22-26, 2009; the Assessment Workshop will take place October 5-9, 2009; the Review Workshop will take place January 25-29, 2010. See SUPPLEMENTARY INFORMATION.

ADDRESSES: The Data Workshop will be held at the Hilton Garden Inn, 5265 International Boulevard, North Charleston, SC 29418; telephone: (843) 308-9330. The Assessment Workshop will be held at the Hilton Bayfront, 333 First Street South, St. Petersburg, FL 33701; telephone: (727) 894-5000. The Review Workshop will be held at the Hilton Garden Inn-Historic Savannah, 321 West Bay Street Savannah, GA 31401; telephone: (912) 721-5000.

FOR FURTHER INFORMATION CONTACT: Julie Neer, SEDAR Coordinator, 4055 Faber Place Drive, Suite 201, North Charleston, SC 29405; telephone: (843) 571-4366.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: (1) Data Workshop, (2) Stock Assessment Workshop and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The product of the Review Workshop is a Consensus Summary documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and NGO's; International experts; and staff of Councils, Commissions, and state and federal agencies.

SEDAR 19 Workshop Schedule:

June 22-26, 2009; SEDAR 19 Data Workshop

June 22, 2009: 1 p.m.- 8 p.m.; June 23-25, 2009: 8 a.m. - 8 p.m.; June 26, 2009: 8 a.m. - 12 p.m.

An assessment data set and associated documentation will be developed during the Data Workshop. Participants will evaluate all available data and select appropriate sources for providing information on life history characteristics, catch statistics, discard estimates, length and age composition, and fishery dependent and fishery independent measures of stock abundance.

October 5-9, 2009; SEDAR 19 Assessment Workshop

October 5, 2009: 1 p.m.- 8 p.m.; October 6-8, 2009: 8 a.m. - 8 p.m.; October 9, 2009: 8 a.m. - 12 p.m.

Using datasets provided by the Data Workshop, participants will develop population models to evaluate stock status, estimate population benchmarks and Sustainable Fisheries Act criteria, and project future conditions. Participants will recommend the most appropriate methods and configurations for determining stock status and estimating population parameters. Participants will prepare a workshop report, compare and contrast various assessment approaches, and determine whether the assessments are adequate for submission to the review panel.

January 25-29, 2010; SEDAR 19 Review Workshop

January 25, 2010: 1 p.m.- 8 p.m.; January 26-28, 2010: 8 a.m. - 8 p.m.; January 29, 2010: 8 a.m. - 12 p.m.

The Review Workshop is an independent peer review of the assessment developed during the Data and Assessment Workshops. Workshop Panelists will review the assessment and document their comments and recommendations in a Consensus Summary.

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to the Council office (see ADDRESSES) at least 10 business days prior to each workshop.

Dated: June 2, 2009.
Tracey L. Thompson,
Acting Director, Office of Sustainable Fisheries, National Marine Fisheries Service.

[FR Doc. E9-13127 Filed 6-4-09; 8:45 am]

BILLING CODE 3510-22-S